DEPARTMENT OF THE INTERIOR

Bureau of Land Management

[CA-338-03-1610-00]

Notice of Availability of the King Range National Conservation Area Proposed Resource Management Plan and Final Environmental Impact Statement

AGENCY: Bureau of Land Management, Interior.

ACTION: Notice of availability.

SUMMARY: The Bureau of Land Management (BLM) has prepared a Proposed Resource Management Plan (RMP) and associated Final Environmental Impact Statement (EIS) for the King Range National Conservation Area (NCA) located in Humboldt and Mendocino Counties, California. The Proposed RMP and Final EIS have been prepared in accordance with the National Environmental Policy Act of 1969, and under authority of the Federal Land Policy and Management Act of 1976, the King Range Act of 1970 (Pub. L. 91-476), and BLM policies. The Proposed RMP was developed with broad public participation beginning with scoping meetings in November 2002, release of a Draft RMP/Draft EIS with public meetings in February and March 2004, and ongoing dialogue with a variety of publics. The Proposed RMP addresses management on the approximately 64,000-acre King Range NCA and the contiguous 5,000 acres of BLM-managed lands.

DATES: BLM Planning Regulations (43 CFR 1610.5-2) state that any person who participated in the planning process, and has an interest that may be adversely affected, may protest. The protest must be filed within 30 days of the date that the Environmental Protection Agency (EPA) publishes a notice of the Proposed RMP/Final EIS availability in the Federal Register. More specific instructions and requirements for protests are contained in the Supplementary Information section of this notice.

ADDRESSES: Copies of the Proposed RMP/Final EIS may be obtained from the following BLM locations: BLM Arcata Field Office, 1695 Heindon Road, Arcata, CA 95521, telephone (707) 825-2300; BLM King Range NCA Project Office, P.O. Drawer 189, Whitethorn, CA 95589, telephone (707) 986-5400; or BLM California State Office, 2800 Cottage Way, Room W-1834, Sacramento, CA 95825, telephone (916) 978-4600; or requested by e-mail at caweb330@ca.blm.gov. The BLM will also announce the availability of the Proposed RMP/Final EIS through local media outlets, the current project mailing list, and on the BLM Arcata Field Office Web site (http://www.ca.blm.gov/arcata/index.html).

FOR FURTHER INFORMATION CONTACT: Bob Wick, Bureau of Land Management, (707) 825-2300.

SUPPLEMENTARY INFORMATION: The King Range Act of 1970 (Public Law 91-476) established the King Range NCA. The Federal Land Policy and Management Act of 1976 (Pub. L. 94-579) expanded the area to its present size of approximately 64,000 acres. The King Range Act requires development of “a comprehensive, balanced, and coordinated plan of land use, development, and management of the Area.” The act also states “that the plan will be reviewed and reevaluated periodically.” An original plan was completed in 1974, and the present planning effort is the first comprehensive update to be undertaken.

The King Range NCA encompasses 35 miles of Pacific coastline and provides for a range of outdoor recreation opportunities. The area contains three federally listed threatened fish species: southern Oregon/northern California coasts Coho salmon (Oncorhynchus kisutch), northern California steelhead (Oncorhynchus mykiss), and California coastal Chinook salmon (Oncorhynchus tshawytscha), and one federally listed threatened animal: northern spotted owl (Strix occidentalis caurina).

The BLM has considered an array of alternatives including specific land use allocations and prescriptions consistent with the legislative intent for the King Range NCA. Recreation and visitor-use management, forest health, fisheries and wildlife management, fire management, travel management, and community involvement in King Range NCA operations are addressed in these alternatives. The Draft RMP/Draft EIS examined four alternatives that respond to these issues. Alternative A is the No Action (current management) Alternative. Alternatives B, C and D present a range of management scenarios with varying amounts of natural resource restoration/use and differing levels of recreation use and developed facilities. The Proposed RMP Alternative is a combination of specific components from Alternatives B, C and D, and provides for a mix of management goals, allowable uses and actions that best address planning issues and conservation of resource values of the area.

The planning process includes an opportunity for administrative review through a plan protest to the BLM Director should a previous commenter on the Draft RMP/Draft EIS believe that the decision has been issued in error. Only those persons or organizations who participated in the planning process may protest. Protests from parties having no previous involvement will be denied without further review. A protesting party may raise only those issues which were submitted for the record during the planning process. New issues raised during the protest period should be directed to the BLM, Arcata Field Manager, 1695 Heindon Road, Arcata, CA 95521 for consideration in plan implementation, as potential plan amendments, or as otherwise appropriate. The period for filing protests begins when the EPA publishes in the Federal Register its Notice of Receipt of the Final EIS containing the Proposed RMP.

Protests must be filed in writing to: Director (210), Attention: Brenda Williams, P.O. Box 66538, Washington, DC 20035; or by overnight mail to: Director (210), Attention: Brenda Williams, 1620 L Street, NW., Suite 1075, Washington, DC 20036. In order to be considered complete, the protest must contain, at a minimum, the following information:

1. The name, mailing address, telephone number, and interest of the person filing the protest.

2. A statement of the issue or issues being protested.

3. A statement of the part or parts of the plan being protested. To the extent possible, this should be done by reference to specific pages, paragraphs, sections, tables, maps, etc. included in the Proposed RMP.

4. A copy of all documents addressing the issue or issues which were submitted during the planning process or a reference to the date the issue or issues were discussed by the person participating, for the record.

5. A concise statement explaining why the decision of the BLM California State Director is believed to be incorrect. This is a critical part of the protest. Take care to document all relevant facts. As much as possible, reference or cite the planning documents, environmental analysis documents, and available planning records (i.e., meeting minutes or summaries, correspondence, etc.). A protest which merely expresses disagreement with the proposed decision, in the absence of supporting data, will not provide additional basis for the BLM Director's review of the decision.

To be considered “timely”, the protest must be postmarked no later than the last day of the 30-day protest period. Also, although not a requirement, it is recommended that the protest be sent by certified mail, return receipt requested. E-mail and faxed protests will not be accepted as valid protests unless the protesting party also provides the original letter by either regular or overnight mail postmarked by the close of the protest period. Under these conditions, the BLM will consider the e-mail or faxed protest as an advance copy, and it will receive full consideration. If you wish to provide the BLM with such advance notification, please direct faxed protests to the attention of the BLM Protests Coordinator at (202) 452-5112, and e-mails to Brenda_Hudgens_Williams@blm.gov. Please direct the follow-up letter to the appropriate address provided above.

Please note that comments, including names and street addresses of respondents, are available for public review and/or release under the Freedom of Information Act (FOIA). Individual respondents may request confidentiality. Respondents who wish to withhold their name and/or street address from public review or from disclosure under FOIA, must state this prominently at the beginning of their written comments. Such requests will be honored to the extent allowed by law. All submissions from organizations or businesses, and from individuals identifying themselves as representatives or officials of organizations or businesses, will be made available for public inspection in their entirety.

The Director will promptly render a decision on the protest. The decision will be in writing and will be sent to the protesting party by certified mail, return receipt requested. The decision of the Director will be the final decision of the Department of the Interior.

Dated: July 20, 2004.
Lynda J. Roush,
Arcata Field Manager.

[FR Doc. 04-24903 Filed 11-10-04; 8:45 am]

BILLING CODE 4310-40-P